DEPARTMENT OF TRANSPORTATION

Office of the Secretary

49 CFR Part 71

[OST Docket No. 2007-28746]

RIN 2105-AD71

Standard Time Zone Boundary in Southwest Indiana

AGENCY: Department of Transportation (DOT), Office of the Secretary (OST).

ACTION: Supplemental notice of proposed rulemaking.

SUMMARY: DOT is providing notice of a petition from the Board of Commissioners in Perry County, IN, to change the time zone boundary for the County from the Central Time Zone to the Eastern Time Zone, and DOT's request for additional information from Perry County to aid in its determination of whether this change would serve the convenience of commerce, the statutory standard for a time zone change. Other persons supporting or opposing the change to Perry County's time zone boundary are also requested to provide comment. The final rule will be based on all of the information received during the entire rulemaking proceeding and whether the statutory standard has been met.

DATES: Comments should be received by August 31, 2007, to be assured of consideration. Comments received after that date will be considered to the extent practicable. If the time zone boundary is changed as a result of this rulemaking, the effective date would be November 4, 2007.

ADDRESSES: You may submit comments by any of the following methods:

• Web site: http://dms.dot.gov. Follow the instructions for submitting comments on the DOT electronic docket site.

• Fax: 1-202-493-2251.

• Mail: Docket Management Facility; U.S. Department of Transportation, 1200 New Jersey Avenue, SE., Room W12-140, Washington, DC 20590-001.

• Hand Delivery: Room W12-140 on the plaza level of the U.S. Department of Transportation, 1200 New Jersey Avenue, SE., Washington, DC, between 9 a.m. and 5 p.m., Monday through Friday, except Federal Holidays.

• Federal eRulemaking Portal: Go to http://www.regulations.gov. Follow the online instructions for submitting comments.

General Instructions: All submissions must include the agency name and docket number (OST Docket Number 2007-28746) or Regulatory Identification Number (RIN 2105-AD71) for this rulemaking. Note that all comments received will be posted without change (including any personal information provided) to http://dms.dot.gov. Please refer to the Privacy Act heading under Regulatory Notices.

Docket: For access to the docket to read background documents or comments received, go to http://dms.dot.gov at any time or to Room W12-140 on the plaza level of the U.S. Department of Transportation, 1200 New Jersey Avenue, SE., Washington, DC, between 9 a.m. and 5 p.m., Monday through Friday, except Federal Holidays.

FOR FURTHER INFORMATION CONTACT: Judith S. Kaleta, Office of the General Counsel, U.S. Department of Transportation, 1200 New Jersey Avenue, SE., Washington, DC 20590, indianatime@dot.gov, (202) 493-0992.

SUPPLEMENTARY INFORMATION: Knox, Daviess, Martin, Pike, and Dubois Counties (the Petitioning Counties) and Perry County were six of eight counties that moved from the Eastern Time Zone to the Central Time Zone under DOT's January 2006 final rule to establish a standard time zone boundary in Indiana (71 FR 3228). On July 19, 2007, DOT published a notice of proposed rulemaking in the Federal Register (72 FR 39593) finding that, based on a Joint Petition filed by the Petitioning Counties and three Supplemental Responses, the Petitioning Counties provided enough information to justify proposing to change their boundary from the Central Time Zone to the Eastern Time Zone.

Under our normal procedures, we do not take action unless a county makes a clear showing that the proposed change of time zone would meet the statutory standard. However, as we noted in our previous rulemaking on time zone boundary changes in Indiana, this has been an unusual case because of the number of counties involved, their relationship to each other and to other neighboring counties, and the circumstances leading up to the petitions. Perry County is located in southwest Indiana, is contiguous to the Petitioning Counties, and had its time zone changed at the same time as the Petitioning Counties. Therefore, DOT asked for comments with regard to Perry County in the Notice of Proposed Rulemaking concerning standard time zone boundary in Southwest Indiana published in the Federal Register on July 19, 2007. DOT stated, “We also understand that this proposal may have an impact on surrounding Counties, particularly Perry County which changed time zone boundaries at the same time as the Petitioning Counties * * *. Our decision in the final rule will be made on the basis of information and comments developed during the entire rulemaking proceeding.” DOT specifically requested comment on whether the proposed change would serve the convenience of commerce, the statutory standard for a time zone change, and whether the time zone boundary should be changed for other contiguous counties in southwestern Indiana.

At the time of the NPRM, DOT was unaware that, on June 1, 2007, Perry County submitted a Petition (2007 Perry County Petition) (OST 2007-28746-654) for a time zone boundary change back to the Eastern Time Zone. DOT has now reviewed the 2007 Perry County Petition and the exhibits attached to it. As set forth below, the 2007 Perry County Petition addresses all of the factors that we consider in these proceedings. However, on July 31, 2007, DOT wrote to Perry County requesting additional information to justify that changing back Perry County to the Eastern Time Zone would serve the convenience of commerce. DOT has summarized below the petition Perry County filed in support of its request to change to the Central Time Zone (the 2005 Perry County Petition), the 2007 Perry County Petition, and DOT's questions on the information submitted by Perry County. DOT seeks comments on the justification provided by Perry County and responsive information to its questions.

2005 and 2007 Perry County Petitions and DOT's Questions

Community Imports and Exports

The 2005 Perry County Petition to move from the Eastern Time Zone to the Central Time Zone stated that the primary employers in the county supply products to customers located throughout North America although most of the customer base is located in the Midwest or the South. In addition, it noted that Perry County's newer employers are considered “just-in-time” suppliers to the automotive industry which require a location less than a day's distance from their respective customers.

In lieu of answering the question on community imports and exports with an overview or analysis of the matter, the 2007 Perry County Petition summarizes and attaches 16 letters from businesses, schools, a hospital, and individuals. According to the 2007 Perry County Petition, the letters express “a desire to change to the Eastern Time Zone” because business conducted on Eastern time and difference in time zones “causes operating challenges on a daily basis.” The 2007 Perry County Petition notes that “businesses in Perry County have in effect lost four hours of each day that they can deal with customers and suppliers from the Eastern Time Zone: One hour in the morning, two hours at lunch, and one hour at the end of the day.” In further support of the Eastern Time Zone request, the 2007 Perry County Petition specifically references three diverse businesses: The Southern Indiana Rural Electric Cooperatives, which would be the only Hoosier Energy Power Network out of 17 that would be in the Central Time Zone and claims metering and billing problems; Kleeman Masonary, Inc, which usually travels east in its construction business; and Perry County Memorial Hospital, which has difficulties dealing with insurance companies in the Eastern Time Zone.

While the 2007 Perry County Petition claims the 16 letters attached to it are from businesses and schools, DOT notes that two of the letters were written on business letterhead but merely provide a preference for a time zone without any justification. Another letter states that it is “more cumbersome” to be on a different time zone, but provides no explanation. Similarly, the 2007 Perry County Petition states that the Perry County Chamber of Commerce has informed the Perry County Commissioners that “there are 386 total employers located in Perry County” and that 41% of businesses have expressed a preference for the Central Time Zone. The 2007 Perry County Petition does not provide the reasons for the “preference.”

In order to assess the impact of a time zone change on businesses, DOT requests comments on the time zone impact on businesses in the County and the reasons for the time zone preferences expressed by Perry County businesses.

Television and Radio Broadcasts

With regard to television broadcasts, the 2005 Perry County Petition stated that the County was “located within the Area of Dominant Influence for the Evansville, Indiana television market.” The 2005 Perry County Petition also stated that Perry County “receives cable and over-the-air broadcasts from the Louisville, Kentucky market as well.” The 2007 Perry County Petition makes the same statements concerning television broadcasts.

With regard to radio broadcasts, the 2005 Perry County Petition stated that the “majority of the stations serving Perry County are located either in the Central Daylight Saving or Eastern Standard time zones.” The 2007 Perry County Petition elaborates on its earlier submission by providing a list of AM and FM radio signals for five cities within the County based on information from radio-locator.com. As the 2007 Perry County Petition notes, residents in the northern part of the County receive radio signals from the Eastern Time Zone while residents in the southern part of the County receive radio signals from the Central Time Zone. While the Perry County Petition provides radio signal information for five cities, it does not provide any information about the population of those cities.

In order to assess the impact of a time zone change on television and radio broadcasts, DOT seeks comments on this issue generally and particularly requests population data for Bristow, Cannelton, Leopold, St. Croix, and Tell City, in Perry County.

Newspapers

The 2005 Perry County Petition stated, “The primary daily newspaper that serves Perry County is the Evansville Courier & Press” in the Central Time Zone and that the local county newspaper, which publishes editions twice per week, also operates a printing plant that prints weekly newspapers for two Central Time Zone communities. On the other hand, the 2005 Perry County Petition also noted that the Louisville Courier & Journal, from the Eastern Time Zone, maintains drop boxes for the Sunday edition at several area convenience stores. Daily service, however, is unavailable.

The 2007 Perry County Petition provides more detailed information on newspaper use within the County. First, the 2007 Perry County Petition now asserts that Perry County residents “primarily” receive their news from the local newspaper, The Perry County News, which is published twice a week. Second, it includes circulation numbers for the Evansville Courier & Press. According to the 2007 Perry County Petition, there are 1,901 weekday subscriptions and 2,271 Sunday subscriptions. While this is consistent with Perry County's original request for the Central Time Zone, the 2007 Perry County Petition claims that the subscriptions support the Eastern Time Zone because the population base is in excess of 18,000. Third, it notes that the Indianapolis Star has a very small circulation in the County.

With regard to newspaper publishing, DOT seeks comment on this issue generally and is also interested in the number of subscriptions of The Perry County News and the Indianapolis Star; the total number of households in Perry County; whether the residents of Perry County receive any newspapers from Daviess, Dubois, Knox, Martin, or Pike Counties and; if residents do receive newspaper from these counties, the circulation numbers of those newspapers within Perry County.

Bus and Passenger Rail Service

The 2005 Perry County Petition states that there are no bus or passenger rail services in the community. The 2007 Perry County Petition explains bus service in more detail, contrasting bus service provided in Evansville and Louisville, and freight rail services. The 2007 Perry County Petition notes that Evansville is approximately 50 miles away and offers services to western and southern routes. In contrast, Louisville is approximately 75 miles away and offers service to the north, northeast, and south. As for rail service, although DOT requested information on passenger rail service, the 2007 Perry County Petition refers only to freight rail service that carries goods through several southern Indiana counties.

DOT seeks comment on the bus information submitted by Perry County, but has no specific request for additional data on this issue.

Airports/Airline Services

The 2005 Perry County Petition states that the nearest airport is in Evansville, located in the Central Time Zone, approximately 55 miles from Perry County. The 2005 Perry County Petition also notes that that there is an airport in Louisville, in the Eastern Time Zone, 75 miles from Perry County. The 2007 Perry County Petition reiterates the same information with regard to airport location and supplements it by referring to the number of departures and destinations and the impact of early morning flights on travelers. According to the 2007 Perry County Petition, Evansville Regional Airport has approximately only 35 daily departures in contrast to Louisville International Airport which offers daily departures to “around 140 domestic destinations plus 53 international destinations.” The 2007 Perry County Petition also notes that because Louisville International Airport is in the Eastern Time Zone, it is “extremely difficult” to take early morning flights unless travelers spend the night at or near the airport.

DOT seeks comment on the airport/airline services information submitted by Perry County, but has no specific request for additional data on this issue.

Worker Commuting Patterns

The 2005 Perry County Petition states that 3,267 persons, or 26% of its total workforce, reside in Perry County but work outside of the County. Of the top five areas to which Perry County residents commute for work, four were in the Central Time Zone and, the fifth, Dubois County, was at that time requesting to be located in the Central Time Zone. (Dubois County is now requesting to be moved back to the Eastern Time Zone.) A STATS Indiana Annual Commuting Trends Profile based on Indiana IT-40 Returns for Tax Year 2003 was attached to the Petition.

The 2007 Perry County Petition also refers to the Perry County workforce. The actual numbers provided differ from the earlier submission and are now based on STATS Indiana Annual Commuting Trends Profile based on Indiana IT-40 Returns for Tax Year 2005. Nevertheless, the percentage of the workforce that leaves the County did not change; it remains 26%.

DOT seeks comment on the worker commuting patterns information submitted by Perry County, but has no specific request for additional data on this issue.

The Community's Economy/Economic Development

The 2005 Perry County Petition discussed the major elements of the community's economy, the improvement in the County's economy, and efforts to ensure that the local economy continues to improve. The Perry County Petition noted “a dramatic shift from traditional woodworking industries to a significant transportation cluster.” It stated that the “primary employers manufacture products for the automotive, heavy truck, and aerospace industries.” The 2005 Perry County Petition also noted the planning and infrastructure the County has put in place to support future economic growth and its partnerships to enhance growth.

The 2007 Perry County Petition answer to the question on the community's economy is nearly the same as the 2005 Perry County Petition. There is only one change. The 2007 Perry County Petition eliminates, in this response, reference to “a regional rural hospital which serves counties in Southern Indiana and Western Kentucky, located in the Central time zone.” However, it includes that reference to the hospital in response to the question concerning health care.

In order to assess the impact of a time zone change on the community's economy, DOT requests comment on the community's economy and information on whether Perry County has entered into economic partnerships with Daviess, Dubois, Knox, Martin, or Pike Counties or other Counties in southern Indiana and, if yes, the nature of these partnerships and how a time zone change would affect these partnerships.

Schools, Recreation, Health Care, or Religious Worship

With regard to schools, the 2005 Perry County Petition emphasized post-secondary education. While the 2005 Perry County Petition recognized that Perry County residents attend post-secondary schools in the Eastern and Central Time Zones, it noted that more Perry County residents go to the University of Southern Indiana in the Central Time Zone than any other school.

The 2007 Perry County Petition shifts the focus from post-secondary education to the high school level. It notes that there are no school districts in Perry County that are in more than one time zone, but indicates that the schools cross time zones to participate in sporting events. Exhibits 10 through 14 to the 2007 Perry County Petition provide information on the athletic conferences in southern Indiana, and the schedules for basketball, volleyball, football, cross country, baseball, and softball. The 2007 Perry County Petition asserts that playing games in different time zones “causes extreme complications with scheduling and arrival and departure times for the schools.”

DOT seeks comment on the information submitted by Perry County with regard to schooling, but has no specific request for additional data.

The 2005 Perry County Petition did not address recreation or whether County residents left the County to pursue recreational interests. The 2007 Perry County Petition, however, states “Perry County prides itself on its outdoor recreational activities including the vast amounts of Hoosier National Forest and ready access to the Ohio River for recreation such as boating, fishing and hunting.” The 2007 Perry County Petition also refers to recreational softball, baseball, and soccer leagues that could play later into the evening if the County were located in the Eastern Time Zone.

In order to assess the impact of a time zone change on recreation, DOT requests information on whether residents leave Perry County for recreation and the standard of time observed in the places where they go for this purpose.

With regard to health care, the 2005 Perry County Petition noted that Perry County is “home to a regional rural hospital.” It also noted that residents also “primarily travel to Evansville and Jasper, Indiana” to purchase health services. The 2007 Perry County Petition also notes the regional hospital and refers to a letter from Perry County Memorial Hospital that is “in favor of the Eastern Time Zone for the reasons set forth in the letter.” The letter states that the hospital conducts “a lot of business with our State Capitol in Indianapolis” and that “the large insurance companies” that it does business with are also located there. While the letter provides business reasons for an Eastern Time Zone preference, it does not address the impact of the current time zone on Perry County residents and whether they are referred to health care providers in other time zones.

In order to assess the impact of a time zone change on health care, DOT requests comments on this issue and information on the number of patients referred from Perry County to health care providers in Evansville, Jasper, Indianapolis, and Louisville.

Neither the 2005 Perry County Petition nor the 2007 Perry County Petition addressed religious worship and DOT has no additional questions concerning this issue.

Regional Connections

In the original rulemaking proceeding to change time zone boundaries from the Eastern Time Zone to the Central Time Zone, petitioning counties and commenters advocated for a move by referring to their ties to other Indiana counties currently in the Central Time Zone. DOT carefully reviewed this data and utilized it in reaching its decision. DOT recognizes the importance of regional connections and the benefits of similar time zones and regional ties among counties. As described in DOT's January 2006 Final Rule's summary of the hearings and comments to the docket, the Southwestern Counties have strong regional ties to each other and Central Time Zone Counties. DOT stated, “While Daviess, Dubois, Knox, Martin, and Perry border other Indiana counties in the Eastern Time Zone, their ties to those counties are not as strong as they are to each other and to other counties to their south, which are currently in the Central Time Zone. Along with Pike, these counties are located in the same workforce, commerce, transportation, and education regions designated by Indiana. Remaining in the same time zone and maintaining their regional ties better position counties to realize advantages in economic, cultural, social, and civic activities, thereby serving the convenience of commerce.”

The 2007 Perry County Petition addresses regional connections by noting that at DOT's hearing on time zones in November 2005, “Perry County representatives stated that one of the reasons for the requested change was the fact that Dubois County was also petitioning to be placed in the Central Time Zone.” It also notes that five other counties in the area petitioned for a time zone change.

DOT seeks comment on the regional connectivity of Perry County with other counties in southern Indiana, including those that have and have not petitioned for a time zone change and how a time zone change would affect regional connections.

Request for Comments

To aid us in our consideration of whether a time zone change would be for the convenience of commerce, we ask for comments on the impact on commerce of a change in the time zone and whether a new time zone would improve the convenience of commerce. The comments should address the impact on such things as economic, cultural, social, and civic activities and how time zone changes affect businesses, communication, transportation, and education. The comments should be as detailed as possible, providing the basis of the information including factual data or surveys.

Comment Period

It is important to resolve this rulemaking expeditiously so that we can provide ample notice if a change to the Petitioning Counties' and Perry County's time zone boundaries is adopted. Nevertheless, we are extending the time for public comments to August 31, 2007. We expect that the comment period is adequate time to submit the necessary data, which is based on currently available information.

Issued in Washington, DC on August 3, 2007.
D.J. Gribbin,
General Counsel.

[FR Doc. 07-3864 Filed 8-3-07; 2:56 pm]

BILLING CODE 4910-9X-P